DEPARTMENT OF EDUCATION

34 CFR Chapter III

[CFDA Number: 84.264H.]

Final Priority; Rehabilitation Training: Vocational Rehabilitation Technical Assistance Center—Youth With Disabilities

AGENCY: Office of Special Education and Rehabilitative Services, Department of Education.

ACTION: Final priority.

SUMMARY: The Assistant Secretary for Special Education and Rehabilitative Services announces a priority under the Rehabilitation Training program. The Assistant Secretary may use this priority for competitions in fiscal year (FY) 2015 and later years. This priority is designed to ensure that professionals working in State vocational rehabilitation (VR) agencies receive the technical assistance (TA) they need to provide youth with disabilities with services and supports that lead to postsecondary education and competitive integrated employment.

DATES: This priority is effective August 31, 2015.

FOR FURTHER INFORMATION CONTACT: Tara Jordan, U.S. Department of Education, 400 Maryland Avenue SW., Room 5040, Potomac Center Plaza (PCP), Washington, DC 20202-2800. Telephone: (202) 245-7341 or by email: tara.jordan@ed.gov.

If you use a telecommunications device for the deaf (TDD) or a text telephone (TTY), call the Federal Relay Service (FRS), toll free, at 1-800-877-8339.

SUPPLEMENTARY INFORMATION:

Purpose of Program: Under the Rehabilitation Act of 1973 (Rehabilitation Act), as amended by the Workforce Innovation and Opportunity Act (WIOA), the Rehabilitation Services Administration (RSA) makes grants to States and public or nonprofit agencies and organizations (including institutions of higher education) to support projects that provide training, traineeships, and TA designed to increase the numbers of, and improve the skills of, qualified personnel, especially rehabilitation counselors, who are trained to: provide vocational, medical, social, and psychological rehabilitation services to individuals with disabilities; assist individuals with communication and related disorders; and provide other services authorized under the Rehabilitation Act.

Program Authority: 29 U.S.C. 772(a)(1).

Applicable Program Regulations: 34 CFR part 385.

We published a notice of proposed priority for this competition in the Federal Register on May 15, 2015 (80 FR 27868). That notice contained background information and our reasons for proposing the particular priority. There are differences between the proposed priority and this final priority, and we explain those differences in the Analysis of Comments and Changes section of this notice.

Public Comment: In response to our invitation in the notice of proposed priority, three parties submitted comments on the proposed priority.

Generally, we do not address technical and other minor changes.

Analysis of Comments and Changes: An analysis of the comments and of any changes in the priority since publication of the notice of proposed priority follows.

Comment: One commenter suggested that the Vocational Rehabilitation Technical Assistance Center—Youth with Disabilities (VRTAC-Y) include as a focus of the training and TA to be provided by the Center best practices for improving services and supports for children with disabilities who are home schooled as well as children with disabilities in foster care. In addition, the commenter noted that, like youth without disabilities, youth with disabilities need support in obtaining work experience in intermediate jobs while they are still being encouraged to seek careers requiring postsecondary education or training. The commenter also suggested that the VRTAC-Y consult with adults with disabilities who are successful in order to identify practices they found to be helpful. Finally, the commenter suggested that best practices include mentoring programs pairing youth with disabilities and individuals with disabilities who have been successful in their chosen careers.

Discussion: The focus of this priority is to provide TA to State VR agencies to improve services to and outcomes for: (1) Students with disabilities, as defined in section 7(37) of the Rehabilitation Act, who are in school and who are not receiving services under the Individuals with Disabilities Education Act (IDEA); and (2) youth with disabilities, as defined in section 7(42) of the Rehabilitation Act, who are no longer in school and who are not employed, often referred to as dropouts. Thus, an applicant could propose to include as a focus of its TA students with disabilities who are home schooled or in foster care and who are not receiving services under the IDEA, and youth with disabilities in foster care who are between the ages of 14 and 24 and who are dropouts, if such a focus is consistent with the TA needs identified by the Center under this priority.

Similarly, nothing in this priority as currently written precludes the grantee from providing TA to help students and youth with disabilities to obtain intermediate jobs as they pursue their long-term career goals. In addition, an applicant may employ or otherwise consult with adults with disabilities to identify best practices in serving students and youth with disabilities, and an applicant may propose this strategy as one of its TA activities. Finally, we agree that developing supportive mentoring relationships can help to improve employment outcomes for youth with disabilities, and we have added language to the priority under topic area (c) to address this comment.

Changes: We have added mentoring services under topic area (c) as an example of a collaborative and coordinated service strategy that is designed to increase the number of students and youth with disabilities who obtain competitive integrated employment.

Comment: Given the potential for overlap with TA and materials provided by other TA centers on related topics, one commenter suggested that applicants for the VRTAC-Y describe their plans to coordinate with other previously established TA centers. The commenter also questioned the requirement to review current VR agency State Plans while State agencies are in the midst of developing Unified or Combined State Plans with WIOA core programs and updating relevant interagency agreements, suggesting that review of these State Plans that were developed before the implementation of WIOA might not yield current information on which to base selection of intensive TA sites or the measurement of TA impact on performance.

Discussion: Coordinating responsibilities between the VRTAC-Y and existing TA centers is required under Coordination Activities, section (b), and Application Requirements, section (b)(1)(iii), and we believe the commenter's concerns are adequately addressed in those sections.

While we recognize that State VR agencies are working with WIOA partners to develop Unified or Combined State Plans, including updating relevant interagency agreements, we expect that review of current State Plans will still provide valuable information for TA purposes. The review of State Plans is only one source of information the VRTAC-Y will consider in its knowledge development activities. In addition to reviewing State-reported data and other information, the VRTAC-Y will conduct a survey of relevant stakeholders and VR service providers to identify TA needs. Finally, the applicant is required to describe how it will determine the effectiveness of the TA, including any proposed standards or targets for determining effectiveness, and its progress toward achieving intended outcomes, which at a minimum must include data on a number of variables.

Changes: None.

Comment: One commenter suggested that the Technical Assistance and Dissemination Activities section of this priority could be strengthened by specifically identifying service providers as partners of the State VR agency in these activities in section (a)(1). The commenter suggested using the phrase “public and community-based” to better describe the service systems discussed under section (a)(2) (how to access and leverage partnerships across agencies and public and community-based service delivery systems to increase the number of students and youth with disabilities provided with relevant and accessible information regarding services available through the State VR agency) and under section (b)(1) (a curriculum guide for developing partnerships). The commenter also suggested that work experience opportunities and programs be included in section (b)(3) (a curriculum guide for developing training and work experience programs).

Discussion: Service providers are included in the term “relevant stakeholders,” which already is used in the priority, so we do not believe it is necessary to mention them specifically. We agree that the phrase “public and community-based” is most inclusive of potential partners in serving students and youth with disabilities. We also agree that the addition of work opportunities to the curriculum guide on developing training and work experience programs is consistent with the individualized nature of customized training that is included in this curriculum guide description.

Changes: We have added the phrase “public and community-based” in sections (a)(2)(i) and (ii) and (b)(1) under Technical Assistance and Dissemination Activities in order to better describe coordination among service systems. Under section (b)(3), we have added the words “career pathways” and “work opportunities” in the description of the curriculum guide.

Comment: None.

Discussion: In reviewing the NPP, we recognized that we had overlooked an obvious but important set of training programs to which students and youth with disabilities should have access.

Changes: We have added language under paragraph (3)(iii) of the Technical Assistance and Dissemination Activities section. We clarify that TA on assisting students and youth with disabilities to access training that is directly responsive to employer needs and hiring requirements may include training offered by providers under the WIOA core programs.

Final Priority:

The purpose of this priority is to fund a cooperative agreement to establish a Vocational Rehabilitation Technical Assistance Center—Youth with Disabilities (VRTAC-Y). The focus of this priority is to provide technical assistance (TA) to State vocational rehabilitation (VR) agencies to improve services to and outcomes of: (1) Students with disabilities, as defined in section 7(37) of the Rehabilitation Act, who are in school and who are not receiving services under the IDEA; and (2) youth with disabilities, as defined in section 7(42) of the Rehabilitation Act, who are no longer in school and who are not employed, often referred to as dropouts. For purposes of this priority, “Students and youth with disabilities” refers to these two groups.

The VRTAC-Y is designed to achieve, at a minimum, the following outcomes:

(a) Assist State VR agencies to identify and meet the VR needs of students and youth with disabilities consistent with section 101(a)(15) of the Rehabilitation Act;

(b) Improve the ability of State VR agencies to develop partnerships with State and local agencies, service providers, or other entities to ensure that students and youth with disabilities are referred for VR services and have access to coordinated supports, services, training, and employment opportunities, including: (1) Increasing the number of referrals and applications received by State VR agencies from agencies, service providers and others serving students and youth with disabilities; and (2) increasing the number of students and youth with disabilities receiving VR services;

(c) Improve the ability of VR personnel to develop individualized plans for employment that ensure the successful transition of students and youth with disabilities and the achievement of post-school goals; and

(d) Increase the number of students and youth with disabilities served by VR agencies (particularly dropouts and youth involved in the foster care and correctional systems) who are engaged in education and training programs leading to the attainment of postsecondary educational skills and credentials needed for employment in high-demand occupations.

Topic Areas

Under this priority, the VRTAC-Y must develop and provide training and TA to State VR agency staff and related rehabilitation professionals and service providers in the following topic areas:

(a) Developing and maintaining formal and informal partnerships and relationships with relevant stakeholders (including, but not limited to, school systems, institutions of higher education (IHEs), State and local service agencies, community rehabilitation programs, correctional facilities and programs, and employers) to increase referral of students and youth with disabilities to the State VR system for the supports and services they need to achieve competitive integrated employment;

(b) Developing and implementing outreach policies and procedures using evidence-based and promising practices that ensure that students and youth with disabilities in the State are located, identified, and evaluated for services; and

(c) Developing and implementing collaborative and coordinated service strategies, such as mentoring services; higher education and training services; and internship, apprenticeship, and other work experience services designed to increase the number of students and youth with disabilities who are served by the State VR agency who obtain competitive integrated employment.

Project Activities

To meet the requirements of this priority, the VRTAC-Y must, at a minimum, conduct the following activities:

Knowledge Development Activities

(a) In the first year, collect information from the literature and from existing Federal, State, and other programs on evidence-based and promising practices relevant to the work of the VRTAC-Y and make this information publicly available in a searchable, accessible, and useful format. The VRTAC-Y must review, at a minimum:

(1) State VR agency State Plan descriptions of outreach plans and procedures, coordination and collaboration with other agencies, and coordination and collaboration with education officials relating to students and youth with disabilities;

(2) State VR agency formal interagency agreements with SEAs for the coordination of transition services, including the provision of pre-employment transition services;

(3) The results of State VR agency monitoring conducted by RSA, when available;

(4) State VR agency program and performance data; and

(5) Information on promising practices and VR needs of students and youth with disabilities from TA centers that serve relevant public and private non-profit agencies, as well as existing RSA and Office of Special Education Programs (OSEP) TA centers and RSA and OSEP Parent Training and Information Centers.

(b) In the first year, conduct a survey of relevant stakeholders and VR service providers to identify TA needs that the VRTAC-Y can meet and develop a process by which TA solutions can be offered to State VR agencies and their partners. The VRTAC-Y must survey, at a minimum:

(1) State VR agency staff;

(2) Relevant RSA staff;

(3) Grantees of the National Institute on Disability, Independent Living, and Rehabilitation Research that are researching topics related to the work of the VRTAC-Y; and

(4) Educators or other professionals conducting research on topics related to the work of the VRTAC-Y.

Technical Assistance and Dissemination Activities

(a) Over the five-year grant period, provide intensive TA to a minimum of 10 State VR agencies and their associated rehabilitation professionals and service providers in the topic areas set out in this priority.¹ In each of the second, third, fourth, and fifth years of the project, the VRTAC-Y must provide intensive TA to at least two different State VR agencies. Applicants must clearly describe the application process and selection criteria for the State VR agencies that would receive intensive TA. Such TA must include:

¹ For the purposes of this priority, “intensive TA” means TA services often provided on-site and requiring a stable, ongoing relationship between the TA Center staff and the TA recipient. “TA services” are defined as a negotiated series of activities designed to reach a valued outcome. Intensive TA should result in changes to policy, programs, practices, or operations that support increased recipient capacity or improved outcomes at one or more systems levels.

(1) For topic area (a)—

(i) Identification of relevant stakeholders in the State or region who can improve the State VR agency's ability to perform outreach activities and meet the employment and training needs of students and youth with disabilities;

(ii) Effective marketing and outreach to school and community services personnel, such as how best to present information about VR supports, training, and programming for students and youth with disabilities; and

(iii) How to develop formal and informal service and outreach agreements with relevant stakeholders to meet the employment and training needs of students and youth with disabilities.

(2) For topic area (b)—

(i) How to conduct an analysis and assessment of outreach strategies to determine gaps between public and community-based service delivery systems, as well as the need for coordinated services and supports across service systems for students and youth with disabilities;

(ii) How to access and leverage partnerships across agencies and public and community-based service delivery systems to increase the number of students and youth with disabilities provided with relevant and accessible information regarding services available through the State VR agency.

(3) For topic area (c)—

(i) Evidence-based and promising practices in the development and implementation of vocational services to meet the employment and training needs of students and youth with disabilities;

(ii) How to incorporate students and youth with disabilities into training programs in which they have been historically underrepresented; and

(iii) How to assist students and youth with disabilities in accessing customized vocational, occupational, or certification training or other career training that is directly responsive to employer needs and hiring requirements, including, but not limited to, training offered by providers under the WIOA core programs, Carl D. Perkins Career and Technical Education Improvement Act, H-1B Ready to Work Partnership Grants, and Trade Adjustment Assistance Community College and Career Training Grants, including two-year and four-year IHEs.

(b) In the first year, develop and refine a minimum of five curriculum guides for VR staff training in topics related to the work of the VRTAC-Y, which must include:

(1) Partnership development across public and community-based service delivery systems for purposes of leveraging resources and coordinating supports, services, training, and employment opportunities for students and youth with disabilities;

(2) Development, implementation, and dissemination of effective model outreach strategies, policies, and procedures to improve access for students and youth with disabilities to VR services and supports;

(3) Development of customized training, career pathways, other career training, work opportunities and work experience programs for students and youth with disabilities;

(4) Development and delivery of support services to providers of career training programs that facilitate completion of training and result in competitive integrated employment for students and youth with disabilities; and

(5) Delivery of support services to employers who hire students and youth with disabilities from customized or career training programs or who offer internships and work experience opportunities.

(c) Provide a range of targeted and general TA products and services on the topic areas in this priority. Such TA must include, at a minimum, the following activities:

(1) Developing and maintaining a state-of-the-art information technology platform sufficient to support Webinars, teleconferences, video conferences, and other virtual methods of dissemination of information and TA;

Note: All products produced by the VRTAC-Y must meet government and industry-recognized standards for accessibility, including section 508 of the Rehabilitation Act. The VRTAC-Y may either develop a new platform or system, or modify existing platforms or systems, so long as the requirements of the priority are met.

(2) Ensuring that all TA products are sent to the National Center for Rehabilitation Training Materials, including: course curricula; audiovisual materials; Webinars; examples of emerging and best practices related to the topic areas in this priority; and any other TA products; and

(3) Providing a minimum of four Webinars or video conferences on each of the topic areas in this priority to describe and disseminate information about emerging and promising practices in each area.

Coordination Activities

(a) Establish a community of practice for all interested State VR agencies that will act as a vehicle for communication, exchange of information among State VR agencies and partners, and a forum for sharing the results of TA projects that are in progress or have been completed. Such community of practice must be focused on partnerships across service systems, outreach and identification strategies for students and youth with disabilities, and the development and provision of vocational services and vocational training to students and youth with disabilities.

(b) Communicate and coordinate, on an ongoing basis, with other Department-funded projects and those supported by the Departments of Labor and Commerce; and

(c) Maintain ongoing communication with the RSA project officer.

Application Requirements

To be funded under this priority, applicants must meet the application requirements in this priority. RSA encourages innovative approaches to meet these requirements, which are to:

(a) Demonstrate, in the narrative section of the application, under “Significance of the Project,” how the proposed project will—

(1) Address State VR agencies' capacity to meet the employment and training needs of students and youth with disabilities. To meet this requirement, the applicant must:

(i) Demonstrate knowledge of emerging and best practices in conducting outreach and providing VR services to students and youth with disabilities;

(ii) Demonstrate knowledge of current applicable Federal statutes and regulations, current RSA guidance, and State and Federal initiatives designed to improve employment outcomes for students and youth with disabilities; and

(iii) Present information about the difficulties that State VR agencies and service providers have encountered in developing and implementing effective outreach and service delivery plans for students and youth with disabilities; and

(2) Result in increases in both the number of students and youth with disabilities receiving services from State VR agencies and related agencies and the number and quality of employment outcomes in competitive integrated employment for students and youth with disabilities;

(b) Demonstrate, in the narrative section of the application, under “Quality of Project Services,” how the proposed project will—

(1) Achieve its goals, objectives, and intended outcomes. To meet this requirement, the applicant must provide—

(i) Measurable intended project outcomes;

(ii) A plan for how the proposed project will achieve its intended outcomes; and

(iii) A plan for communicating and coordinating with key staff in State VR agencies, State and local partner programs, advocates for students and youth with disabilities, RSA partners such as the Council of State Administrators of Vocational Rehabilitation (CSAVR), the National Council of State Agencies for the Blind (NCSAB), and other TA Centers and relevant programs within the Departments of Education, Labor, and Commerce;

(2) Use a conceptual framework to develop project plans and activities, describing any underlying concepts, assumptions, expectations, beliefs, or theories, as well as the presumed relationships or linkages among these variables, and any empirical support for this framework;

(3) Be based on current research and make use of evidence-based and promising practices. To meet this requirement, the applicant must describe—

(i) The current research on emerging, promising, and evidence-based practices in the topic areas in this priority;

(ii) How the current research about adult learning principles and implementation science will inform the proposed TA; and

(iii) How the proposed project will incorporate current research and evidence-based practices in the development and delivery of its products and services;

(4) Develop products and provide services that are of high quality and sufficient intensity and duration to achieve the intended outcomes of the proposed project. To address this requirement, the applicant must describe—

(i) Its proposed activities to identify or develop the knowledge base on emerging and promising practices in the topic areas in this priority;

(ii) Its proposed approach to universal, general TA; ²

² For the purposes of this priority, “universal, general technical assistance” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,³ which must identify—

³ For the purposes of this priority, “targeted, specialized technical assistance” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of State VR agencies to work with the proposed project, assessing, at a minimum, their current infrastructure, available resources, and ability to effectively respond to the TA, as appropriate;

(iv) Its proposed approach to intensive, sustained TA, which must identify—

(A) The intended recipients of the products and services under this approach;

(B) Its proposed approach to measure the readiness of the State VR agencies to work with the proposed project including the State VR agencies' commitment to the TA initiatives, appropriateness of the initiatives, current infrastructure, available resources, and ability to respond effectively to the TA, as applicable;

(C) Its proposed plan for assisting State VR agencies to build training systems that include professional development based on adult learning principles and coaching; and

(D) Its proposed plan for developing intensive TA agreements with State VR agencies to provide intensive, sustained TA. The plan must describe how the intensive TA agreements will outline the purposes of the TA, the intended outcomes of the TA, and the measurable objectives of the TA that will be evaluated;

(5) Develop products and implement services to maximize the project's efficiency. To address this requirement, the applicant must describe—

(i) How the proposed project will use technology to achieve the intended project outcomes; and

(ii) With whom the proposed project will collaborate and the intended outcomes of this collaboration;

(c) Demonstrate, in the narrative section of the application under “Quality of the Evaluation Plan,” how the proposed project will—

(1) Measure and track the effectiveness of the TA provided. To meet this requirement, the applicant must describe its proposed approach to—

(i) Collecting data on the effectiveness of each TA activity from State VR agencies, partners, or other sources, as appropriate; and

(ii) Analyzing data and determining the effectiveness of each TA activity, including any proposed standards or targets for determining effectiveness. At a minimum, the VRTAC-Y must analyze data on school and service system referrals to State VR agencies and employment outcomes of students and youth with disabilities, including type of employment, wages, hours worked, weeks of employment, and public benefits received;

(2) Collect and analyze data on specific and measurable goals, objectives, and intended outcomes of the project, including measuring and tracking the effectiveness of the TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual TA activities achieved their intended outcomes;

(d) Demonstrate, in the narrative section of the application under “Adequacy of Project Resources,” how—

(1) The proposed project will encourage applications for employment from persons who are members of groups that have historically been underrepresented based on race, color, national origin, gender, age, or disability, as appropriate;

(2) The proposed key project personnel, consultants, and subcontractors have the qualifications and experience to provide TA to State VR agencies and their partners in each of the topic areas in this priority and to achieve the project's intended outcomes;

(3) The applicant and any key partners have adequate resources to carry out the proposed activities; and

(4) The proposed costs are reasonable in relation to the anticipated results and benefits;

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors that will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, TA providers, researchers, and policy makers, among others, in its development and operation.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities. The benefits of the Rehabilitation Training program have been well established over the years through the successful completion of similar projects. This priority will better prepare State VR agency personnel to assist the students and youth with disabilities who are the focus of this priority to achieve competitive integrated employment in today's challenging labor market.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 27, 2015.
Michael K. Yudin,
Assistant Secretary for Special Education and Rehabilitative Services.

[FR Doc. 2015-18713 Filed 7-29-15; 8:45 am]

BILLING CODE 4000-01-P